DEPARTMENT OF HEALTH AND HUMAN SERVICES

Health Resources and Services Administration

Update to the Women's Preventive Services Guidelines

AGENCY: Health Resources and Services Administration (HRSA), Department of Health and Human Services (HHS).

ACTION: Notice.

SUMMARY: On December 17, 2019, HRSA approved an update to the HRSA-supported Women's Preventive Services Guidelines (Guidelines) that addresses health needs specific to women. The Guidelines are based on clinical recommendations from the Women's Preventive Services Initiative. Preventive care and screenings for women provided for in comprehensive guidelines supported by HRSA are required to be covered without cost-sharing by non-grandfathered group health plans and health insurance issuers offering non-grandfathered group or individual health insurance coverage. This 2019 update adds one additional service—Screening for Anxiety—to the HRSA-supported Women's Preventive Services Guidelines to the 11 preventive services that were last updated in 2017. The 11 services included in the 2017 update are: Breast Cancer Screening for Average Risk Women, Breastfeeding Services and Supplies, Screening for Cervical Cancer, Contraception, Screening for Gestational Diabetes Mellitus, Screening for Human Immunodeficiency Virus Infection, Screening for Interpersonal and Domestic Violence, Counseling for Sexually Transmitted Infections, Well-Woman Preventive Visits, Screening for Diabetes Mellitus after Pregnancy, and Screening for Urinary Incontinence. This notice serves as an announcement of the decision to update the guidelines as listed below. Please see https://www.hrsa.gov/womens-guidelines/index.html for additional information.

FOR FURTHER INFORMATION CONTACT: Ada Determan, Maternal and Child Health Bureau at email: wellwomancare@hrsa.gov or (301) 945-3057.

SUPPLEMENTARY INFORMATION: The updated 2019 HRSA-supported Women's Preventive Services Guidelines and information related to guideline development and implementation can be found on https://www.hrsa.gov/womens-guidelines-2019/index.html. Information regarding the new preventive service approved by the HRSA Administrator for inclusion in the comprehensive guidelines is set out below:

Screening for Anxiety

The Women's Preventive Services Initiative recommends screening for anxiety in adolescent and adult women, including those who are pregnant or postpartum. Optimal screening intervals are unknown and clinical judgement should be used to determine screening frequency. Given the high prevalence of anxiety disorders, lack of recognition in clinical practice, and multiple problems associated with untreated anxiety, clinicians should consider screening women who have not been recently screened.

HRSA-Supported Women's Preventive Services Guidelines

The HRSA-supported Women's Preventive Services Guidelines were originally established in 2011 based on recommendations from the Institute of Medicine, now known as the National Academy of Medicine (NAM), developed under a contract with HHS. Since then, there have been advancements in science and gaps identified in the existing guidelines, including a greater emphasis on practice-based clinical considerations. To address these, HRSA awarded a 5-year cooperative agreement in March 2016 to convene a coalition of clinician, academic, and consumer-focused health professional organizations and conduct a scientifically rigorous review to develop recommendations for updated Women's Preventive Services Guidelines in accordance with the model created by the NAM Clinical Practice Guidelines We Can Trust. The American College of Obstetricians and Gynecologists was awarded the cooperative agreement and formed an expert panel called the Women's Preventive Services Initiative to perform this work.

Under section 2713 of the Public Health Service Act, 42 U.S.C. 300gg-13, non-grandfathered group health plans and issuers of non-grandfathered group and individual health insurance coverage are required to cover specified preventive services without a copayment, coinsurance, deductible, or other cost sharing, including preventive care and screenings for women as provided for in comprehensive guidelines supported by HRSA for this purpose. Non-grandfathered group health plans and health insurance issuers offering non-grandfathered group or individual coverage (generally plans or policies created or sold after March 23, 2010, or older plans or policies that have been changed in certain ways since that date) are required to provide coverage without cost sharing for preventive services listed in the updated HRSA-supported guidelines (which include the 11 preventive services last updated in 2017 as well as the one new service added in this update) beginning with the first plan year (in the individual market, policy year) that begins on or after December 17, 2020.

Dated: December 30, 2019.
Thomas J. Engels,
Administrator.

[FR Doc. 2020-00035 Filed 1-6-20; 8:45 am]

BILLING CODE 4165-15-P